SMALL BUSINESS ADMINISTRATION

[Disaster Declaration # 10859]

Maine Disaster Number ME-00007

AGENCY: U.S. Small Business Administration.

ACTION: Amendment 3.

SUMMARY: This is an amendment of the Presidential declaration of a major disaster for Public Assistance Only for the State of Maine (FEMA-1693-DR), dated 4/25/2007.

Incident: Severe Storms and Inland and Coastal Flooding.

Incident Period: 4/15/2007 through 4/23/2007.

DATES: Effective Date: 5/16/2007.

Physical Loan Application Deadline Date: 6/25/2007.

ADDRESSES: Submit completed loan applications to : U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Maine, dated 4/25/2007, is hereby amended to include the following areas as adversely affected by the disaster.

Primary Counties:

Washington

All other information in the original declaration remains unchanged.

(Catalog of Federal Domestic Assistance Number 59008)

Herbert L. Mitchell,
Associate Administrator for Disaster Assistance.

[FR Doc. E7-10198 Filed 5-25-07; 8:45 am]

BILLING CODE 8025-01-P